ENVIRONMENTAL PROTECTION AGENCY

[FRL-6587-4]

Agency Information Collection Activities: Proposed Collections; Comment Request; Information Requirements for Importation of Nonconforming Vehicles; Information Requirements for Importation of Nonconforming Nonroad Compression Ignition (CI) and Small Spark Ignition (SI) Engines

AGENCY: Environmental Protection Agency (EPA).

ACTION: Notice.

SUMMARY: In compliance with the Paperwork Reduction Act (44 U.S.C. 3501 et seq.), this notice announces that EPA is planning to submit the following proposed and/or continuing Information Collection Requests (ICR) to the Office of Management and Budget (OMB): Information Requirements for Importation of Nonconforming Vehicles, OMB Control Number 2060-0095; Information Requirements for Nonconforming Nonroad Compression Ignition (CI) and Small Spark Ignition (SI) Engines, OMB Control Number 2060-0294. Before submitting the ICRs to OMB for review and approval, EPA is soliciting comments on specific aspects of the proposed information collection as described below.

DATES: Comments must be submitted on or before June 30, 2000.

ADDRESSES: Interested persons may obtain a copy of the ICRs without charge by contacting: Certification and Compliance Division, 1200 Pennsylvania Avenue, NW (6405J), Washington, DC 20460, Attn: Imports.

FOR FURTHER INFORMATION CONTACT: Mr. Leonard Lazarus, telephone (202) 564-9240, telefax (202) 565-2057.

SUPPLEMENTARY INFORMATION: Affected entities: Entities potentially affected by this action include individuals and businesses (including Independent Commercial Importers) importing on and off-road motor vehicles, motor vehicle engines, or nonroad engines, including nonroad engines incorporated into nonroad equipment or nonroad vehicles.

Title: Information Requirements for Importation of Nonconforming Vehicles, OMB #2060-0095, expiration date 8/31/00; Information Requirements for Nonconforming Nonroad Compression Ignition (CI) and Small Spark Ignition (SI) Engines, OMB #2060-0294, expiration date 8/31/00.

Abstract: Individuals and businesses importing on and off-road motor vehicles, motor vehicle engines, or nonroad engines, including nonroad engines incorporated into nonroad equipment or nonroad vehicles report and keep records of vehicle importations, request prior approval for vehicle importations, or request final admission for vehicles conditionally imported into the U.S. The collection of this information is mandatory in order to ensure compliance of nonconforming vehicles with Federal emissions requirements. Joint EPA and Customs regulations at 40 CFR 85.1501 et seq., 89.601 et seq., 90.601 et seq., and 19 CFR 12.73 and 12.74 promulgated under the authority of Clean Air Act Sections 203 and 208 give authority for the collection of information. This authority was extended to nonroad engines under section 213(d). The information is used by program personnel to ensure that all Federal emission requirements concerning imported nonconforming motor vehicles and nonroad engines are met. Any information submitted to the Agency for which a claim of confidentiality is made is safeguarded according to policies set forth in Title 40, Chapter 1, Part 2, Subpart B—Confidentiality of Business Information (see CFR 2), and the public is not permitted access to information containing personal or organizational identifiers. An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The annual public reporting and recordkeeping burden for this collection of information is estimated to average 0.7 hours per response (OMB #2060-0095), and 0.5 hours per response (OMB #2060-0294) respectively. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

OMB #2060-0095

Respondents/Affected entities: Individuals and businesses importing motor vehicles, motor vehicle engines.

Estimated Number of Respondents: 13,000

Frequency of Response: 1.6 responses/year

Estimated Total Annual Hour Burden: 14,200

Estimated Total Annualized Costs Burden: $1,296,000

OMB #2060-0294

Respondents/Affected entities: Individuals and businesses importing compression-ignition nonroad engines and small spark-ignition nonroad engines, including those incorporated into nonroad equipment or vehicles.

Estimated Number of Respondents: 1500

Frequency of Response: 100 responses/year

Estimated Total Annual Hour Burden: 75,385

Estimated Total Annualized Costs Burden: $4,686,450

Dated: April 20, 2000.
Robert Brenner,
Acting Assistant Administrator, Office of Air and Radiation.

[FR Doc. 00-10769 Filed 4-28-00; 8:45 am]

BILLING CODE 6560-50-P